NATIONAL SCIENCE FOUNDATION

Business and Operations Advisory Committee; Notice of Meeting

In accordance with the Federal Advisory Committee Act (Pub. L. 92-463, as amended), the National Science Foundation (NSF) announces the following meeting:

Name and Committee Code: Business and Operations Advisory Committee (#9556).

Date and Time: March 4, 2024; 11 a.m.-5 p.m. (eastern).

Place: NSF, 2415 Eisenhower Avenue, Alexandria, VA 22314 (Virtual).

Type of Meeting: Open.

Contact Persons: Kellie Luurtsema, National Science Foundation, 2415 Eisenhower Avenue, Alexandria, VA 22314; Telephone: (703) 292-8200.

Purpose of Meeting: To provide advice, recommendations and counsel on major goals and policies pertaining to engineering programs and activities.

Agenda:

• Welcome/Introductions

• Chief Diversity and Inclusion Officer (CDIO) Introduction

• Organizational Health and Performance

• Chief Information Officer (CIO) Introduction—Vision/Key Priorities

• Subcommittee on NSF's Information Technology and Enterprise Architecture Strategy

Dated: February 7, 2024.
Crystal Robinson,
Committee Management Officer.

[FR Doc. 2024-02818 Filed 2-9-24; 8:45 am]

BILLING CODE 7555-01-P